ENVIRONMENTAL PROTECTION AGENCY

[ER-FRL-8587-9]

Environmental Impacts Statements; Notice of Availability

Responsible Agency: Office of Federal Activities, General Information (202) 564-1399 or http://www.epa.gov/compliance/nepa/.

Weekly Receipt of Environmental Impact Statements

Filed 11/17/2008 Through 11/21/2008

Pursuant to 40 CFR 1506.9.

EIS No. 20080474, Draft EIS, NPS, VA, Cedar Creek and Bella Grove National Historical Park, General Management Plan, Implementation, Frederick, Shenandoah, Warren Counties, VA, Comment Period Ends: 02/26/2009, Contact: Christopher J. Stubbs 540-868-9176.

EIS No. 20080475, Draft Supplement, FHW, CA, Schuyler Heim Bridge Replacement and SR-47 Expressway Improvement Project, New Information related to Health Risk Associated with Air Toxics, Funding, U.S. Coast Guard Bridge Permit, U.S. Army COE Section 10 and 404 Permits, Ports of Long Beach and Los Angeles, Los Angeles County, CA, Comment Period Ends: 01/12/2009, Contact: Karl Price 213-897-1839.

EIS No. 20080476, Final EIS, COE, 00, White River Minimum Flood Study, To Provide an Improved Minimum Flow for the Benefit of the Tail Water Fishery, White River Basin Lakes: Beaver, Table Rock, and Bull Shoal Lakes on the White River; Norfork Lake on the North Fork White River; and Greens Ferry Lake on the Little Red River, AR and MO, Wait Period Ends: 12/29/2008, Contact: Mike Biggs 501-324-7342.

EIS No. 20080477, Draft EIS, FTA, MA, Urban Ring Corridor—Phase 2 Project, Circumferential Transportation Improvements, Proposed Major New Bus Rapid Transit, Funding and Right-of-Way Permit, Located in the Municipalities of Boston, Brookline, Cambridge, Chelsea, Everett, Medford and Somerville, MA, Comment Period Ends: 02/09/2009, Contact: Mary Beth Mello 617-494-2055.

EIS No. 20080478, Final Supplement, COE, CA, Pacific Los Angeles Marine Terminal, Pier 400 Berth 408 Project, Construction and Operation of a new Marine Terminal, U.S. Army COE Section 10 and 404 Permits, Port of Los Angeles, Los Angeles County, CA, Wait Period Ends: 12/29/2008, Contact: Dr. Spencer D. MacNeil 805-585-2152.

EIS No. 20080479, Draft EIS, FHW, UT, Geneva Road, Center Street/1600 West (Provo) to Geneva Road/SR-89 (Pleasant Grove), Improvements, U.S. Army COE 404 Permit, Utah County, UT, Comment Period Ends: 01/22/2009, Contact: Bryan Dillon 801-963-0182.

EIS No. 20080480, Draft EIS, USN, NJ, Laurelwood Housing Area, Access at Naval Weapons Station Earle, Lease Agreement, Monmouth County, NJ, Comment Period Ends: 01/12/2009, Contact: Kim Joyner-Barty 757-322-8473.

EIS No. 20080481, Draft EIS, NOA, CA, Southwest Fisheries Science Center Replacement, Construction and Operation, located on University of California, San Diego Scripps Institute of Oceanography Campus, LaJolla, CA, Comment Period Ends: 01/12/2009, Contact: Mark Eberling 206-526-6477.

EIS No. 20080482, Final EIS, DOE, 00, PROGRAMMATIC—Designation of Energy Corridors in 11 Western States, Preferred Location of Future Oil, Gas, and Hydrogen Pipelines and Electricity Transmission and Distribution Facilities on Federal Land, AZ, CA, CO, ID, MT, NV, NM, UT, WA and WY, Wait Period Ends: 12/29/2008, Contact: LaVerne Kyriss 202-586-1056. Department of Energy and the Department of the Interior/Bureau of Land Management are Joint Lead Agencies on this project.

EIS No. 20080483, Final EIS, FHW, MO, MO-34 Improvement, from U.S. Routes 60/21 Intersection in Carter County to Routes 34/72 Intersection in Cape Girardeau County, Funding, U.S. Army COE Section 404 Permit, Carter, Bollinger, Reynolds, Wayne, and Cape Girardeau Counties, MO, Wait Period Ends: 12/30/2008, Contact: Peggy Casey 573-636-7104.

Amended Notices

EIS No. 20080405, Draft Supplement, COE, LA, Inner Harbor Navigation Canal (IHNC) Lock Replacement Project, Proposal for Relieving Navigation Traffic Congestion Associated with IHNC Lock, Located between the St. Claude Avenue and North Claibone Avenue Bridge, Orleans, LA, Comment Period Ends: 01/24/2009, Contact: Richard E. Boe 504-862-1505. Revision of FR Notice Published on 10/10/2008; Extending Comment Period from 11/25/2008 to 01/24/2009.

Dated: November 24, 2008.
Robert W. Hargrove,
Director, NEPA Compliance Division, Office of Federal Activities.

[FR Doc. E8-28313 Filed 11-26-08; 8:45 am]

BILLING CODE 6560-50-P